DEPARTMENT OF LABOR

Occupational Safety and Health Administration

[Docket No. OSHA-2007-0042]

TUV Rheinland of North America, Inc.: Grant of Renewal of Recognition

AGENCY: Occupational Safety and Health Administration (OSHA), Labor.

ACTION: Notice.

SUMMARY: This notice announces the Occupational Safety and Health Administration's final decision granting renewal of recognition of TUV Rheinland of North America, Inc., as a Nationally Recognized Testing Laboratory (NRTL).

DATES: The renewal of recognition becomes effective on July 30, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification. OSHA maintains an informational Web site for each NRTL at http://www.osha.gov/dts/otpca/nrtl/index.html that details its scope of recognition.

OSHA processes applications submitted by an NRTL for renewal of recognition following requirements in Appendix A to 29 CFR 1910.7. OSHA conducts renewals in accordance with the procedures in 29 CFR 1910.7, App. A II.C. In accordance with these procedures, NRTLs submit a renewal request to OSHA between nine months and one year before the expiration date of its current recognition. A renewal request includes a request for renewal and any additional information demonstrating its continued compliance with the terms of its recognition and 29 CFR 1910.7. If OSHA has not conducted an on-site assessment of the NRTL headquarters and any key sites within the past 18 to 24 months, it will schedule the necessary on-site assessment prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

TUV Rheinland of North America, Inc. (TUVRNA), initially received OSHA recognition as an NRTL on August 16, 1995 (60 FR 42594). The most recent renewal for TUVRNA was on March 18, 2002, for a five-year period expiring on March 19, 2007. TUVRNA submitted a timely request for renewal, dated June 12, 2006 (see Ex. OSHA-2007-0042-0007), and retained its recognition pending OSHA's final decision in this renewal process. The current addresses of TUVRNA facilities recognized by OSHA and included as part of the renewal request are:

1. TUVRNA Newtown, 12 Commerce Road, Newtown, Connecticut 06470; and

2. TUVRNA Austin, 2324 Ridgepoint Drive, Suite E, Austin, Texas 78754.

OSHA evaluated TUVRNA's application for renewal and made a preliminary determination that TUVRNA can continue to meet the requirements prescribed by 29 CFR 1910.7 for recognition. OSHA conducted audits of TUVRNA's headquarters, TUVRNA Newtown, on July 25-26, 2013, and the TUVRNA Austin site on August 23-25, 2010. OSHA found non-conformances with the requirements of 29 CFR 1910.7. TUVRNA addressed these issues sufficiently to meet the applicable NRTL requirements. Accordingly, OSHA determined that it did not need to conduct an on-site review of TUVRNA's facilities for this request for renewal based on its evaluation of TUVRNA's application and all other available information.

OSHA published the preliminary notice announcing TUVRNA's renewal request in the Federal Register on February 24, 2014 (79 FR 10198). The Agency requested comments by March 11, 2014, but received no comments in response to this notice. OSHA now is proceeding with this final notice to grant TUVRNA's request for renewal of recognition.

To obtain or review copies of all public documents pertaining to TUVRNA's application, go to www.regulations.gov or contact the Docket Office, Occupational Safety and Health Administration, U.S. Department of Labor, 200 Constitution Avenue NW., Room N-2625, Washington, DC 20210. Docket No. OSHA-2007-0042 contains all materials in the record concerning TUVRNA's recognition.

II. Final Decision and Order

Pursuant to the authority granted under 29 CFR 1910.7, OSHA hereby gives notice of the renewal of recognition of TUVRNA as an NRTL. OSHA NRTL Program staff reviewed the renewal request for TUVRNA and other pertinent information. Based on this review of the renewal request for TUVRNA and other pertinent information, OSHA finds that TUVRNA meets the requirements of 29 CFR 1910.7 for renewal of its recognition, subject to the specified limitation and conditions. OSHA limits the renewal of TUVRNA's recognition to include the terms and conditions of TUVRNA's scope of recognition. The scope of recognition for TUVRNA is available in the Federal Register notice dated August 16, 1995 (60 FR 42594), or on OSHA's Web site at http://www.osha.gov/dts/otpca/nrtl/tuv.html. This renewal extends TUVRNA's recognition for a period of five years from July 30, 2014.

Conditions

In addition to those conditions already required by 29 CFR 1910.7, TUVRNA also must abide by the following conditions of recognition:

1. TUVRNA must inform OSHA as soon as possible, in writing, of any change of ownership, facilities, or key personnel, and of any major change in its operations as an NRTL, and provide details of the change(s);

2. TUVRNA must meet all the terms of its recognition and comply with all OSHA policies pertaining to this recognition; and

3. TUVRNA must continue to meet the requirements for recognition, including all previously published conditions on TUVRNA's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 25, 2014.
David Michaels,
Assistant Secretary of Labor for Occupational Safety and Health.

[FR Doc. 2014-17966 Filed 7-29-14; 8:45 am]

BILLING CODE 4510-26-P